FEDERAL COMMUNICATIONS COMMISSION

[DA 01-933, ET Docket No. 98-206]

The MITRE Corporation Report on Technical Analysis of Potential Harmful Interference to DBS From Proposed Terrestrial Services in the 12.2-12.7 GHz Band

AGENCY: Federal Communications Commission.

ACTION: Notice; request for comments.

SUMMARY: The MITRE Corporation delivered to the FCC a Report titled “Analysis of Potential MVDDS Intereference to DBS in the 12.2-12.7 GHz Band.” The MITRE Corporation report was conducted pursuant to Prevention of Interference to Direct Broadcast Satellite Services, of the Commerce, Justice, State and Judiciary Appropriations Act, (CJSJA Act), H.R. 5548 (enacted on December 21, 2000, as part of Public Law 106-553). The MITRE Corporation report addresses the question of possible interference from MVDDS to DBS. Pursuant to the statute, the Commission seeks comment on this report.

DATES: Comments Due: May 15, 2001; Reply Comments Due May 23, 2001.

FOR FURTHER INFORMATION CONTACT: Michael Marcus for the MITRE Study, and Tom Derenge for ET Docket No. 98-206, Office of Engineering and Technology, (202) 418-2418, and (202) 418-2451, respectively; internet mmarcus@fcc.gov and tderenge@fcc.gov, respectively.

SUPPLEMENTARY INFORMATION: This is a summary of the text of the Public Notice, DA 01-933 released April 23, 2001. This document is available on the Commission's Internet site, at ww.fcc.gov/oet/info/mitrereport/. It is also available for inspection and copying during regular business hours in the FCC Reference Center, Room CY-A257, 445 12th Street, SW, Washington, DC, and also may be purchased from the Commission's duplication contractor, International Transcription Service, Inc., (202) 857-3800, 1231 20th Street, NW, Washington, DC 20036.

Summary of the Public Notice

1. On April 18, 2001, MITRE Corporation delivered to the FCC a Report titled “Analysis of Potential MVDDS Intereference to DBS in the 12.2-12.7 GHz Band.” The MITRE Corporation report was conducted pursuant to Section 1012, Prevention of Interference to Direct Broadcast Satellite Services, of the Commerce, Justice, State and Judiciary Appropriations Act, (CJSJA Act), H.R. 5548 (enacted on December 21, 2000, as part of Public Law 106-553). This document can be found through the Commission's Electronic Comment Filing System (ECFS) at. www.fcc.gov/e-file/ecfs.html. It can also be found directly at www.fcc.gov/oet/inf/mitrereport/. (The report contains many color diagrams so use of a color printer is recommended in order to follow the technical details in hard copies.) Pursuant to the statute, the Commission seeks comment on this report.

2. The First Report and Order and Further Notice of Proposed Rulemaking in ET Docket 98-206, 66 FR 7606, January 24, 2000, (http://www.fcc.gov/Bureaus/Engineering_Technology/Orders/2000/fcc00418.pdf) proposed that a new Multichannel Video Distribution and Data Service (MVDDS) share the existing Direct Broadcast Satellite Service (DBS) downlink allocation at 12.2-12.7 GHz. The MITRE Corporation report addresses the question of possible interference from MVDDS to DBS users in accordance with Section 1012 of the CJSJA Act.

3. Comments on The MITRE Corporation report shall be filed by no later than May 15, 2001. Replies to the comments shall be filed no later than May 23, 2001. Comments and replies are to be filed with the Commission following the same procedures applicable to the First Report and Order and Further Notice of Proposed Rule Making in this proceeding, ET Docket No. 98-206. Comments filed through the ECFS can be sent as an electronic file via the Internet at www.fcc.gov/e-file/ecfs.html. In completing the transmittal screen, commenters should include their full name, Postal Service mailing address, and the applicable docket number. Parties may also submit an electronic comment by Internet e-mail. To obtain filing instructions for e-mail comments, commenters should send an e-mail to ecfs@fcc.gov, and should include the following words in the body of the message: “get form <your e-mail address>”. A sample form and directions will be sent in reply.

4. Comments may be filed using the Commission's Electronic Comment Filing System (ECFS) or by filing paper copies. Generally, only one electronic submission must be filed. If filing by paper, parties must file an original and four copies. Parties should send comments to the Office of the Secretary, Federal Communications Commission, 445 12th Street, SW, Washington, DC 20554. Parties are also encouraged to file a copy of all pleadings on a 3.5 inch diskette in Word 97 format.

5. This matter shall be treated as a “permit-but-disclose” proceeding in accordance with the Commission's ex parte rules. See 47 CFR 1.1200 and 1.1206. Persons making oral ex parte presentations are reminded that memoranda summarizing the presentations must contain summaries of the substance or the presentations and not merely a listing of the subjects discussed. More than a one or two sentence description of the views and arguments presented generally is required. See 47 CFR 1.1206(b). Other rules pertaining to oral and written ex parte presentations in permit-but-disclose proceedings are set forth in 47 CFR 1.1206(b).

6. This action is taken pursuant to authority found in Sections 4(i) and 303(r) of the Communications Act of 1934, as amended, 47 U.S.C. 154(i) and 303(r); and pursuant to §§ 0.31 and 0.241 of the Commission's Rules, 47 CFR 0.31 and 0.241.

Federal Communications Commission.
Geraldine Matise,
Deputy Chief, Policy and Rules Division, Office of Engineering and Technology.

[FR Doc. 01-11077 Filed 5-2-01; 8:45 am]

BILLING CODE 6712-01-P